DEPARTMENT OF HEALTH AND HUMAN SERVICES

National Institutes of Health

Submission for OMB Review; 30-Day Comment Request Scientific Information Reporting System (SIRS) NIGMS

SUMMARY: Under the provisions of Section 3507(a)(1)(D) of the Paperwork Reduction Act of 1995, the National Institutes of Health (NIH) has submitted to the Office of Management and Budget (OMB) a request for review and approval of the information collection listed below. This proposed information collection was previously published in the Federal Register on August 23, 2015, page 48549 and allowed 60-days for public comment. One public comment was received. The purpose of this notice is to allow an additional 30 days for public comment. The National Institute of General Medical Sciences (NIGMS), National Institutes of Health, may not conduct or sponsor, and the respondent is not required to respond to, an information collection that has been extended, revised, or implemented on or after October 1, 1995, unless it displays a currently valid OMB control number.

Direct Comments To OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comment Due Date: Comments regarding this information collection are best assured of having their full effect if received within 30-days of the date of this publication.

FOR FURTHER INFORMATION CONTACT: To obtain a copy of the data collection plans and instruments or request more information on the proposed project contact: Dr. W. Fred Taylor Ph.D., Branch Chief, Capacity-Building Branch (CBB), Division of Training, Workforce Development, and Diversity (TWD), NIGMS, NIH, 45 Center Drive, Room 2AS43S, Bethesda MD 20892, or call non-toll-free number (301) 435-0760 or Email your request, including your address to: taylorwf@mail.nih.gov. Formal requests for additional plans and instruments must be requested in writing.

Proposed Collection: Scientific Information Reporting System (SIRS), 0925-In Use Without OMB Control Number, National Institute of General Medical Sciences (NIGMS), National Institutes of Health (NIH).

Need and Use of Information Collection: The SIRS is an online data collection system whose purpose is to obtain supplemental information to the annual Research Performance Progress Report (RPPR) submitted by grantees of the Institutional Development Award (IDeA) Program and the Native American Research Center for Health (NARCH) Program. The SIRS will collect program-specific data not requested in the RPPR data collection system. The IDeA Program is a congressionally mandated, long-term interventional program administered by NIGMS aimed at developing and/or enhancing the biomedical research competitiveness of States and Jurisdictions that lag in NIH funding. The NARCH Program is an interagency initiative that provides support to American Indian and Alaska Native (AI/AN) tribes and organizations for conducting research in their communities in order to address health disparities, and to develop a cadre of competitive AI/AN scientists and health professionals. The data collected by SIRS will provide valuable information for the following purposes: (1) Evaluation of progress by individual grantees towards achieving grantee-designated and program-specified goals and objectives, (2) evaluation of the overall program for effectiveness, efficiency, and impact in building biomedical research capacity and capability, and (3) analysis of outcome measures to determine need for refinements and/or adjustments of different program features including but not limited to initiatives and eligibility criteria. Data collected from SIRS will be used for various regular or ad hoc reporting requests from interested stakeholders that include members of Congress, state and local officials, other federal agencies, professional societies, media, and other parties.

OMB approval is requested for 3 years. There are no costs to respondents other than their time. The total estimated annualized burden hours are 613.

Estimated Annualized Burden Hours
Form name | Respondents | Number of respondents | Number of responses per respondent | Average burden hours per response | Total annual burden hours
SIRS | Principal Investigators, COBRE Phase I | 37 | 1 | 3.5 | 130
SIRS | Principal Investigators, COBRE Phase II | 36 | 1 | 3.5 | 126
SIRS | Principal Investigators, COBRE Phase III | 35 | 1 | 3.5 | 122
SIRS | Principal Investigators, INBRE | 24 | 1 | 5.5 | 132
SIRS | Principal Investigators, IDeA-CTR | 5 | 1 | 3.5 | 18
SIRS | Principal Investigators, NARCH | 19 | 1 | 4.5 | 85

Dated: November 10, 2015.
Tammy Dean-Maxwell,
Project Clearance Branch Liaison, NIGMS, NIH.

[FR Doc. 2015-29085 Filed 11-13-15; 8:45 am]

BILLING CODE 4140-01-P